DEPARTMENT OF THE INTERIOR

Bureau of Indian Affairs

25 CFR Part 30

[190A2100DD/AAKC001030/A0A501010.999900 253G]

Bureau of Indian Education Standards, Assessments, and Accountability System Negotiated Rulemaking Committee; Notice of Meeting

AGENCY: Bureau of Indian Affairs, Interior.

ACTION: Notice of public meeting.

SUMMARY: In accordance with the Federal Advisory Committee Act, the Bureau of Indian Education (BIE) Standards, Assessments, and Accountability System Negotiated Rulemaking Committee (Committee), will hold a public meeting to continue the work to advise the Secretary of the Interior (Secretary) through the BIE on a proposed rule to revise the Adequate Yearly Progress regulation. This notice announces the date and location of a fourth in-person Committee meeting.

DATES: The meeting is open to the public and will be held Tuesday, March 12, 2019, through Thursday, March 14, 2019; from 8:30 a.m. to 4:30 p.m. Mountain Time.

ADDRESSES: The meeting will be held at the Bureau of Indian Affairs, 2600 North Central Avenue, 4th Floor Eagle Room, Phoenix, Arizona 85004. Members of the public will need to bring proper identification to enter the Federal building.

FOR FURTHER INFORMATION CONTACT: The Designated Federal Officer, Ms. Sue Bement, Education Program Specialist, BIE, by any of the following methods:

• (Preferred method) Email to: BIEcomments@bia.gov;

• Mail, hand-carry or use an overnight courier service to the Designated Federal Officer, Ms. Sue Bement, C/O The Office of Regulatory Affairs and Collaborative Action, 1001 Indian School Road NW, Suite 229, Albuquerque, NM 87104.

SUPPLEMENTARY INFORMATION: This meeting is being held under the Elementary and Secondary Education Act, as amended by the Every Student Succeeds Act (ESSA), the Negotiated Rulemaking Act, and the Federal Advisory Committee Act. The Committee is to negotiate and reach consensus on recommendations for a proposed rule that will replace the existing regulations at 25 CFR part 30. The Secretary, using a negotiated rulemaking process to develop regulations for implementation, shall define the standards, assessments, and accountability system consistent with section 1111 of the ESEA, for schools funded by the BIE on a national, regional, or Tribal basis, as appropriate, taking into account the unique circumstances and needs of such schools and the students served by such schools. The Federal Register (83 FR 16806) notice published on April 17, 2018, discussed the issues to be negotiated and the interest group representatives proposed as members of the Committee.

The first three in-person meetings and spring 2019 webinar were announced in the Federal Register (83 FR 37822) notice published on August 2, 2018. The BIE is announcing a fourth in-person meeting. The following items will be on the agenda:

• Focus on the draft proposed rule for publication;

• Seek consensus on the draft;

• Schedule government-to-government consultations including what key information will be shared during consultation; and

• Public comment.

Detailed information about Committee meetings, including detailed agendas, can be accessed at https://www.bie.edu/Resources/NRMC/index.htm. Written comments may be sent to the Designated Federal Official listed in the FOR FURTHER INFORMATION CONTACT section above. All meetings are open to the public; however, transportation, lodging, and meals are the responsibility of the participating public.

Authority: The Elementary and Secondary Education Act of 1965, as amended, 20 U.S.C. 6301 et seq.

Dated: January 25, 2019.
Tara Sweeney,
Assistant Secretary—Indian Affairs.

[FR Doc. 2019-01834 Filed 2-8-19; 8:45 am]

BILLING CODE 4337-15-P